DEPARTMENT OF HOUSING AND URBAN DEVELOPMENT

[Docket No. FR-4682-N-02]

Notice of Regulatory Waiver Requests Granted for the Second Quarter of Calendar Year 2001

AGENCY: Office of the Secretary, HUD.

ACTION: Notice of the granting of regulatory waivers from April 1, 2001, through June 30, 2001.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on April 1, 2001 and ending on June 30, 2001.

FOR FURTHER INFORMATION CONTACT: For general information about this notice, contact Aaron Santa Anna, Assistant General Counsel for Regulations, Room 10282, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from April 1, 2001 through June 30, 2001. For ease of reference, the waivers granted by HUD are listed by HUD program office (for example, the Office of Community Planning and Development, the Office of Housing, the Office of Public and Indian Housing, etc.). Within each program office grouping, the waivers are listed sequentially by the section of title 24 being waived. For example, a waiver grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both 58.73 and 58.74 would appear sequentially in the listing under 58.73.

Waiver-grant actions involving the same initial regulatory citation are in time sequence beginning with the earliest-dated waiver grant action.

Should HUD receive additional reports of waiver actions taken during the period covered by this report before the next report is published, the next updated report will include these earlier actions, as well as those that occurred between July 1, 2001 through September 30, 2001.

Accordingly, information about approved waiver requests pertaining to HUD regulations is provided in the Appendix that follows this notice.

Dated: October 29, 2001.
Alphonso Jackson,
Deputy Secretary.

Appendix—Listing of Waivers of Regulatory Requirements Granted by Offices of the Department of Housing and Urban Development April 1, 2001 Through June 30, 2001

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Fair Housing and Equal Opportunity.

III. Regulatory waivers granted by the Office of Housing.

IV. Regulatory waivers granted by the Office of Multifamily Housing Assistance Restructuring.

V. Regulatory waivers granted by the Office of Public and Indian Housing.

I. Regulatory Waivers Granted by the Office of Community Planning and Development

For further information about the following waiver actions, please see the name of the contact person who immediately follows the description of the waiver granted.

• Regulation: 24 CFR 91.520(a).

Project/Activity: The City of Moline, Illinois, requested a waiver of the submission deadline for the City's 2000 program year CAPER.

Nature of Requirement: 24 CFR 91.520(a) requires each grantee to submit a performance report to HUD within 90 days after the close of the grantee's program year.

Granted By: Donna M. Abbenante, Acting General Deputy Assistant Secretary for Community Planning and Development.

Date Granted: June 22, 2001.

Reasons Waived: The extension was needed because the key person responsible for the report was replaced. The new staff person is unfamiliar with the CAPER requirements and needs additional time to complete the report. The Department determined that there was good cause to grant the waiver. While submission of a timely report is important, it is also important to ensure that the report submitted is accurate. The City received an extension to August 31, 2001 to submit its CAPER.

Contact: Cornelia Robertson-Terry, Office of Community Planning and Development, Department of Housing and Urban Development, 451 Seventh Street, SW, Washington, DC 20410; Room 7152 (202) 708-2565, ext.4556.

• Regulation: 24 CFR 92.212(b).

Project/Activity: Wharton County, Texas requested a waiver of the HOME pre-award costs requirements. The County must prepare a Consolidated Plan and does not have funds to pay the administrative costs associated with the development of a Consolidated Plan.

Nature of Requirement: 24 CFR 92.12(b) limits pre-award costs for administrative and planning expenses to costs incurred after the beginning of a participating jurisdiction's (PJ) consolidated program year.

Granted By: Donna M. Abbenante, Acting General Deputy Assistant Secretary for Community Planning and Development.

Date Granted: June 15, 2001.

Reasons Waived: HUD determined that there was good cause for the waiver and failure to grant the waiver would create a significant hardship for the County. The PJ is not a CDBG entitlement community and does not receive any CDBG funds. The preparation of a Consolidated Plan is a new undertaking.

Contact: Cornelia Robertson-Terry, Office of Community Planning and Development, Department of Housing and Urban Development, 451 Seventh Street, SW, 20410, Room 7152, telephone: (202) 708-2565, ext.4556.

II. Regulatory Waivers Granted by the Office of Fair Housing and Equal Opportunity

For further information about the following waiver actions, please see the name of the contact person who immediately follows the description of the waiver granted.

• Regulation: 24 CFR 115.207(d)(1).

Project/Activity: Rockland County Commission on Human Rights, Rockland County, New York “ Certification of Substantially Equivalent Agencies and the Fair Housing Assistance Program.

Nature of Requirement: The regulation at § 115.207(d)(1), restricts the term of the Agreement for the Interim Referral of Complaints and Other Utilization of Services (interim agreement) to no more than three years.

Granted By: Floyd O. May, Deputy Assistant Secretary for Operations and Management.

Date Granted: March 1, 2001.

Reason Waived: During the second year of the interim agreement, Rockland County Commission on Human Rights (RCCHR) developed unexpected problems. During the third year, the Department provided RCCHR with a Performance Improvement Plan. RCCHR is now performing in a satisfactory manner and has the ability to fulfill its programmatic obligations. This waiver extended the interim agreement of RCCHR and authorized RCCHR to continue receiving capacity building funds for a fourth year.

Contact: Kenneth J. Carroll, Office of Fair Housing and Equal Opportunity, Office of Programs, FHIP/FHAP Support Division, Department of Housing and Urban Development, Room 5222, 451 Seventh Street, SW, Washington, DC 20410; telephone: (202) 708-0883, extension 7407.

III. Regulatory Waivers Granted by the Office of Housing

For further information about the following waiver actions, please see the name of the contact person who immediately follows the description of the waiver granted.

• Regulation: 24 CFR 200.85(b).

Project/Activity: Lambert House North, South and East Project Numbers 012-55125, 012-55240, 012-55250, New York, New York.

Nature of Requirement: Section 200.85(b) prohibits an inferior lien from being placed on a property with a HUD-insured mortgage, which will be repaid from mortgage proceeds other than surplus cash or residual receipts, except in the case of the inferior lien created by an operating loss insured pursuant to section 223(d) of the National Housing Act (12 U.S.C. 1701 et seq.), or a supplemental loan insured pursuant to section 241 of the National Housing Act.

Granted By: Sean G. Cassidy, General Deputy Assistant Secretary for Housing-Federal Housing Commissioner.

Date Granted: April 9, 2001.

Reason Waived: This waiver was granted after the New York Multifamily Hub's review of the owner's budget submission and determination that the projects are generating sufficient funds to support the pay back of the new uninsured loans. Allowing this loan to be serviced from operating cash will enable these projects to be repaired and continue to serve as an affordable housing resource for the public.

Contact: Ronald W. Wallace, Field Asset Management Division, Office of Asset Management, Department of Housing and Urban Development, 451 Seventh Street SW, Room 6176, Washington, DC 20410; telephone: (202) 708-0614, extension 2590.

• Regulation: 24 CFR 202.3(c)(2)(iii).

Project/Activity: Credit Watch/Termination Threshold, Washington, D.C.

Nature of Requirement: To raise the threshold for placing a HUD/FHA approved lender on Credit Watch status when its default and claim rate exceeds the field office default and claim rate.

Granted By: John C. Weicher, Assistant Secretary for Housing-Federal Housing Commissioner.

Date Granted: June 27, 2001.

Reason Waived: Waiving the regulation permits HUD/FHA to initially focus on those lenders originating the worst performing loans. The waiver will adjust the Credit Watch threshold from being between 150% and 200.9% of the HUD field office default and claim rate to being between 200% and 300.9% of that rate. This waiver is limited to Credit Watch reviews conducted in the second quarter of FY 2001.

Contact: Joy L. Hadley, Director, Quality Assurance Division, Department of Housing and Urban Development, 451 Seventh Street SW, Room B133-P3214, Washington, DC 20410; telephone: (202) 708-2830.

• Regulation: 24 CFR 203.357(c), 203.370(c)(1) & (4), 203.673(c), 203.674(b)(1)-(4), 203.675, 203.676, 203.677, 203.678.

Project/Activity: United Pathways Foundation, Pembroke Pines, Florida.

Nature of Requirement: Section 203.673(c) precludes reimbursement for relocation expenses during repairs; 24 CFR 203.674(b)(1), (2), (3) and (4) states some of the required conditions for continued occupancy for an occupant who does not meet the illness or injury criteria; 24 CFR 203.675 sets out the requirements for adequate notice to occupants of pending acquisition; 24 CFR 203.676 states that an occupant must request continued occupancy within 20 days after notice of pending acquisition; 24 CFR 203.677 details the Department's procedures in its decision to approve or deny a request for occupied conveyance; 24 CFR 203.678 requires that a property be conveyed to HUD vacant; 24 CFR 203.370(c)(1) and (4) requires that in order to be considered for the pre-foreclosure sale procedure, one must be an owner-occupant in a single family residence that is security for an FHA-insured mortgage, and one must have received homeownership counseling; 24 CFR 203.357(c) requires a mortgagee to obtain prior written consent from the Commissioner in order to accept a deed in lieu of foreclosure from an individual who owns more than one FHA-insured property.

Granted By: Sean G. Cassidy, General Deputy Assistant Secretary for Housing-Deputy Federal Housing Commissioner.

Date Granted: April 25, 2001.

Reason Waived: Regulations were waived in order to allow the Department to use loss mitigation approaches to dispose of 111 properties securing FHA-insured mortgages in various states of default and foreclosure, while protecting the tenants. The properties' owner, United Pathways Foundation, had filed for Chapter 11 bankruptcy.

Contact: Joe McCloskey, Director, Office of Single Family Asset Management, Department of Housing and Urban Development, 451 Seventh SW, Washington, DC 20410; telephone: (202) 708-1672.

• Regulation. 24 CFR 203.370(c)(1) & (4).

Project/Activity: Non-profit mortgagors in New York City area.

Nature of Requirement: Sections 203.370(c)(1) and (4) require that, in order to be considered for the pre-foreclosure sales procedure, one must be an owner-occupant in a one-to-four family dwelling that is security for an FHA-insured mortgage, and one must have received homeownership counseling.

Granted By: Sean G. Cassidy, Deputy Assistant Secretary for Housing—Deputy Federal Housing Commissioner.

Date Granted: May 8, 2001.

Reason Waived: In aggregate, these non-profit mortgagors own approximately 719 properties located in and around New York City. Fraudulent activities of some sellers, originating mortgagees, appraisers, title companies, and others, resulted in under-funding the rehabilitation, incomplete rehabilitation, insufficient rental income to service the debt, and mortgage default. Many of the non-profit mortgagors were misled by assurances that consultants would oversee the rehabilitation of the properties and that the rehabilitated properties would generate sufficient cash flow. Many of the non-profit mortgagors lacked the financial capacity and experience to rehabilitate the properties.

Regulations were waived in order to allow the Department to consider pre-foreclosure purchase offers for less than the full indebtedness on these properties. The regulation provides that the mortgagor must be an owner-occupant in order to be eligible for the pre-foreclosure sale program. Non-profit mortgagors are not owner-occupant mortgagors. The regulation also provides that the owner must receive housing counseling about loss mitigation alternatives before a pre-foreclosure sale would be considered. Housing counseling is geared towards owner-occupant mortgagors. The non-profit mortgagors receive(d) similar information through means other than counseling. Pre-foreclosure sales reduce the losses incurred by the insurance funds because HUD does not have to include the expense of foreclosure proceedings in the payments for insurance claims.

Contact: Joe McCloskey, Director, Office of Single Family Asset Management, Department of Housing and Urban Development, 451 Seventh Street SW, Washington, DC 20410; telephone: (202) 708-1672.

• Regulation: 24 CFR 203.670(b), 203.673(b), 203.674(a)(1), and 203.675(b).

Project/Activity: St. Ambrose Housing Aid Center, Baltimore, Maryland.

Nature of Requirement: These regulations prohibit the Secretary from accepting properties which are conveyed occupied.

Granted By: Sean G. Cassidy, General Deputy Assistant Secretary for Housing—Deputy Federal Housing Commissioner.

Date Granted: May 17, 2001.

Reason Waived: These waivers are appropriate because the occupant is a victim of predatory lending activities in the Baltimore pilot project. The occupant was also the subject of a “Fleecing of America” segment on NBC News. The occupant's mortgage was determined to be based on a grossly inflated property value. Unfortunately, the originating lender, American Skycorp, Inc., is no longer in business. Therefore, no restitution can be obtained from her former lender. Her mortgage is currently in foreclosure and her credit history is such that the occupant cannot qualify for another loan.

St. Ambrose Housing Aid Center, a HUD approved housing counseling agency and housing provider, has agreed to purchase the property following acquisition by the Department through a deed in lieu of foreclosure. The occupant will remain in the property and become a tenant of St. Ambrose Housing Aid Center. After the property is conveyed to HUD, the M&M contractor will make certain repairs to the property as well as replace the furnace and water heater. Unless the actions are taken, the property may fail to meet HUD's Habitability Standards. During the time the occupant is a tenant, she will receive counseling and help to repair her credit status. When the occupant is eligible for a mortgage loan, St. Ambrose will sell the property to the occupant.

Contact: Trudy Dotson, Asset and Property Disposition Division, Office of Single Family Asset Management, Department of Housing and Urban Development, 451 Seventh Street SW, Washington, DC 20410; telephone: (202) 708-1672.

• Regulation: 24 CFR 219.220(b).

Project/Activity: Bethel Church Homes I and II, FHA Project Numbers 061-35006 and 061-55035, Athens, Georgia.

Nature of Requirement: Section 219.220(b) governs the repayment of assistance provided under the Flexible Subsidy Program for Troubled Projects prior to May 1, 1996. This provision requires repayment of the flexible subsidy loan at time of prepayment.

Granted By: Sean G. Cassidy, General Assistant Secretary for Housing—Deputy Federal Housing Commissioner.

Date Granted: April 2, 2001.

Reason Waived: This waiver was granted in order to allow the owner of Bethel Church Homes I and II to repay the existing mortgage, obtain one new FHA-insured mortgage and perform substantial rehabilitation of the properties. This will allow the flexible subsidy loans to remain as soft second and third mortgages. If the waiver had not been granted, the owner would not have had the available funds to repay the flexible subsidy loans and he would not be able to obtain the FHA-insured financing of the new mortgage, thereby losing the opportunity to improve this much needed housing for low-income citizens of Athens, Georgia.

Contact: Cindy W. Bridges, Field Asset Management Division, Office of Asset Management, Department of Housing and Urban Development, 451 Seventh Street SW, Room 6160, Washington, DC 20410; telephone: (202) 708-0614, extension 2603.

• Regulation: 24 CFR 234.26(b).

Project/Activity: Temporary establishment of approval process for condominium projects and FHA mortgage insurance on condominium units located in the Commonwealth of Puerto Rico.

Nature of Requirement: Section 234.26(b) requires that a condominium project be committed to a plan of condominium ownership by a deed, or other recorded instrument that is acceptable to the Department.

Granted By: John C. Weicher, Assistant Secretary for Housing—Federal Housing Commissioner.

Date Granted: June 11, 2001.

Reason Waived: The regulation was waived to permit the approval of condominium projects and insurance of individual units in condominiums whose plans for ownership have been presented to the Commonwealth of Puerto Rico Registry for recordation but not yet recorded, provided that title insurance is obtained on each unit insured. Under Puerto Rico's inscription process, legal documents creating a condominium regime are first “presented” to the Commonwealth of Puerto Rico Registry for review. Acceptable documents are then recorded. Due to current backlog, this process can take several years. At presentment a condominium is established and during the review process a purchaser acquires a fee interest in the unit together with a common, undivided interest in the common areas. This waiver is effective for one year from the date it was granted and shall not involve more than 3,064 dwelling units.

Contact: Vance T. Morris, Director Office of Single Family Production, Department of Housing and Urban Development, 451 Seventh Street SW, Washington, DC 20410; telephone: (202) 708-2121 extension 2204.

• Regulation: 24 CFR 234.26(e)(3).

Project/Activity: Insurance for a mortgage on an individual unit in Mt. Vernon Lake Condominium, Alexandria, Virginia.

Nature of Requirement: Section 234.26(e)(3) requires that at least 51% of all family units in a condominium project be occupied by the owners as a principal or secondary residence, or have been sold to owners who intend to meet this occupancy requirement.

Granted By: Sean G. Cassidy, General Deputy Assistant Secretary for Housing—Deputy Federal Housing Commissioner.

Date Granted: April 27, 2001.

Reason Waived: The regulation was waived to insure a HUD-owned condominium in a condominium project that had an owner-occupancy rate of 43%. The Department has an interest in the continued viability of the condominium project because there are other HUD-insured properties in the project. The individual unit benefited by this waiver was in good condition and being sold at 105% of the list price to an owner-occupant. Sale of the unit would eliminate further marketing costs to the Department.

Contact: Vance T. Morris, Director, Office of Single Family Production, Department of Housing and Urban Development, 451 Seventh Street SW, Washington, DC 20410; telephone: (202) 708-2121 extension 2204.

• Regulation: 24 CFR 291.100(a)(2).

Project/Activity: Granting a former mortgagor a right of first refusal on a property in Lake Worth, Florida.

Nature of Requirement: Section 291.100(a)(2) prohibits HUD from allowing a former mortgagor in occupancy, who has defaulted on the mortgage, the right of first refusal to repurchase the same property.

Granted By: Sean Cassidy, General Deputy Assistant Secretary for Housing—Deputy Federal Housing Commissioner.

Date Granted: May 31, 2001.

Reason Waived: The waiver is appropriate since the occupant is 100% disabled as a result of an accident. At the present time she has received a monetary settlement, which includes a monthly allocation for life. The occupant has spent approximately $40,000 of her money modifying the residence to handicapped accessible standards. An interior and exterior inspection of the property revealed that the occupant has maintained it in a highly satisfactory manner. The property has been appraised at $100,000 and the occupant has obtained her own financing. In light of the occupant's medical condition, financial capacity and ability to maintain the property this waiver was granted.

Contact: Trudy Dotson, Asset Management and Disposition Division, Office of Single Family Asset Management, Department of Housing and Urban Development, 451 Seventh Street SW, Washington, DC 20410; telephone: (202) 708-1672.

• Regulation: 24 CFR 891.100(d).

Project/Activity: Charles O. Miles Manor, Ecorse, Michigan, Project Number: 044-EE064/MI28-S991-005.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The State of Michigan had experienced a large increase in the cost of developing new projects and many contractors used a “take it or leave it” pricing approach, and the Sponsor had secured funds from Wayne County's City Home funds and the Weinberg Foundation.

Contact: Faye Norman, Office of Housing Assistance and Grant Administration, Department of Housing and Urban Development, 451 Seventh Street, Washington, DC 20410; telephone: (202) 708-0614 extension 2482.

• Regulation: 24 CFR 891.100(d).

Project/Activity: Liberty Apartments, Fulton, Missouri, Project Number: 085-HD028/MO36-Q991-004.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The shape and topography of the site required additional grading and construction of a retaining wall to achieve proper drainage away from the building, bids for the electrical and plumbing contracts came in at a much higher rate than anticipated, the high cost factor of 156 percent was not sufficient for the Fulton area, the project was economically designed and was comparable to other similar projects developed in the area.

Contact: Rita Ross, Office of Housing Assistance and Grant Administration, Department of Housing and Urban Development, 451 Seventh Street SW, Washington, DC 20410; telephone: (202) 708-0614 extension 2696.

• Regulation: 24 CFR 891.100(d).

Project/Activity: Jordan Bay Place, Raymond, Maine, Project Number: 024-EE050/ME26-S991-001.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The project was economically designed, comparable to similar projects in the area, and the Sponsor/Owner had exhausted all efforts to obtain additional funds from outside sources.

Contact: Frank Tolliver, Office of Housing Assistance and Grant Administration, Department of Housing and Urban Development, 451 Seventh Street SW, Washington, DC 20410; telephone: (202) 708-0614 extension 3821.

• Regulation: 24 CFR 891.100(d).

Project/Activity: Mt. Olive Elderly Coop, Randallstown, Maryland, Project Number: 052-EE032/MD06-S991-004.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: Material costs had risen, there was a shortage of skilled laborers, which has caused the overall cost of construction to rise, and the project was economically designed and comparable to other similar projects constructed in the area.

Contact: Rita Ross, Office of Housing Assistance and Grant Administration, Department of Housing and Urban Development, 451 Seventh Street, Washington, DC 20410; telephone: (202) 708-0614 extension 2696.

• Regulation: 24 CFR 891.100(d).

Project/Activity: Roxbury Senior Housing, Roxbury, Connecticut, Project Number: 017-EE039.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The project was economically designed, comparable in cost to similar projects, and the Sponsor could not contribute any additional funds.

Contact: Monique Love, Office of Housing Assistance Grant Administration, Department of Housing and Urban Development, 451 Seventh Street SW, Washington, DC 20410; telephone: (202) 708-0614 extension 2475.

• Regulation: 24 CFR 891.100(d).

Project/Activity: Kirkland Union Plaza, Vancouver, Washington, Project Number: 126-EE028/OR16-S981-003.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The project was economically designed, comparable to similar projects in the area and the Owner had secured funds from the City of Vancouver and the Vancouver Housing Authority.

Contact: Faye Norman, Office of Housing Assistance and Grant Administration, Department of Housing and Urban Development, 451 Seventh Street SW, Washington, DC 20410; telephone: (202) 708-0614 extension 2482.

• Regulation: 24 CFR 891.100(d).

Project/Activity: Diamond Springs Phase II, Diamond Springs, California, Project Number: 136-EE053/CA30-S991-004.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 2, 2001.

Reason Waived: The project was economically designed, comparable to similar projects in the area, and the Sponsor/Owner had exhausted all efforts to obtain additional funds from outside sources.

Contact: Frank Tolliver, Office of Housing Assistance and Grant Administration, Department of Housing and Urban Development, 451 Seventh Street SW, Washington, DC 20410; telephone: (202) 708-0614 extension 3821.

• Regulation: 24 CFR 891.100(d).

Project/Activity: West Hamlin Unity Apartments, West Hamlin, West Virginia, Project Number: 045-HD026/WV15-Q971-002.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 6, 2001.

Reason Waived: The project was economically designed, comparable to similar project in the area, and the Sponsor/Owner had exhausted all efforts to obtain additional funds from outside sources.

Contact: Frank Tolliver, Office of Housing Assistance and Grant Administration, Department of Housing and Urban Development, 451 Seventh Street SW, Washington, DC 20410; telephone: (202) 708-0614 extension 3821.

• Regulation: 24 CFR 891.100(d).

Project/Activity: Immacolata Manor Homes, Liberty, Missouri, Project Number: 084-HD031/MO16-Q991-004.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 6, 2001.

Reason Waived: The project was economically designed, comparable to similar projects in the area, and the Sponsor/Owner had exhausted all efforts to obtain additional funds from outside sources.

Contact: Frank Tolliver, Office of Housing Assistance and Grant Administration, Department of Housing and Urban Development, 451 Seventh Street SW, Washington, DC 20410; telephone: (202) 708-0614 extension 3821.

• Regulation: 24 CFR 891.100(d).

Project/Activity: Woodbury Senior Housing, Woodbury, Connecticut, Project Number: 017-EE044/CT26-S981-002.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 10, 2001.

Reason Waived: The project was economically designed, comparable to other similar projects in the jurisdiction, and all efforts to lower the cost of the project had been exhausted.

Contact: Dianna Plaugher, Office of Housing Assistance and Grant Administration, Department of Housing and Urban Development, 451 Seventh Street SW, Washington, DC 20410; telephone: (202) 708-0614 extension 6791.

• Regulation: 24 CFR 891.100(d).

Project/Activity: Mill Pond Village, Montrose, Virginia, Project Number: 051-EE072/VA36-S991-003.

Nature of Requirement: HUD's regulation at 24 CFR 891.100(d) prohibits amendment of the amount of approved capital advance funds prior to initial closing.

Granted By: Sean G. Cassidy, General Deputy Assistant Secretary for Housing—Deputy Federal Housing Commissioner.

Date Granted: April 16, 2001.

Reason Waived: The project was modest in design and the development team had taken all reasonable steps to assure a cost effective project.

Contact: Dianna Plaugher, Office of Housing Assistance and Grant Administration, Department of Housing and Urban Development, 451 Seventh Street SW, Washington, DC 20410; telephone: (202) 708-0614 extension 6791.

• Regulation: 24 CFR 891.100(d) and 24 CFR 891.165.

Project/Activity: Twin Elm Project, Nassau County, New York, Project Number: 012-HD080/NY36-Q981-001.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 6, 2001.

Reason Waived: The Owner had exhausted all efforts to find additional funds from other sources. Also, a delay of over one year was encountered due to issues associated with incorporation.

Contact: Monique Love, Office of Housing Assistance and Grant Administration, Department of Housing and Urban Development, 451 Seventh Street SW, Washington, DC 20410; telephone: (202) 708-0614 extension 2475.

• Regulation: 24 CFR 891.100(d) and 24 CFR 891.165.

Project/Activity: Washington Court, Red Bluff, California, Project Number: 136-EE046/CA30-S981-004.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 6, 2001.

Reason Waived: There were 2530 flags placed on both the Owner and management agent, and the project was economically designed and comparable to other similar projects developed in the area. Also, the project experienced delays while the 2530 process was being resolved.

Contact: Dianna Plaugher, Office of Housing Assistance and Grant Administration, Department of Housing and Urban Development, 451 Seventh Street SW, Washington, DC 20410; telephone: (202) 708-0614 extension 6791.

• Regulation: 24 CFR 891.100(d) and 24 CFR 891.165.

Project/Activity: St. Peter's Place II Elderly Housing, Borough of Phoenixville, Chester County, Pennsylvania, Project Number: 034-EE070/PA26-S971-002.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 9, 2001.

Reason Waived: Delays were caused due to problems the Owner had in identifying a qualified general contractor. Also, the project was economically designed, comparable to other similar projects developed in the jurisdiction, and the Sponsor had exhausted all efforts to obtain additional funding from other sources.

Contact: Brenda Butler, Office of Housing Assistance and Grant Administration, Department of Housing and Urban Development, 451 Seventh Street SW, Washington, DC 20410; telephone: (202) 708-0614 extension 6788.

• Regulation: 24 CFR 891.100(d) and 24 CFR 891.165.

Project/Activity: Gibbstown VOA Elderly Housing, Township of Greenwich, Gloucester County, New Jersey, Project Number: 035-EE030/NJ39-S971-007.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 10, 2001.

Reason Waived: The project was economically designed, comparable to similar projects in the area and the Sponsor/Owner had exhausted all efforts to obtain additional funds from outside sources. Also, the project had been delayed due to unanticipated changes in fees charged by the Town of Greenwich, increased contractor fees, easement negotiations, and title policy changes.

Contact: Frank Tolliver, Office of Housing Assistance and Grant Administration, Department of Housing and Urban Development, 451 Seventh Street SW, Washington, DC 20410; telephone: (202) 708-0614 extension 3821.

• Regulation: 24 CFR 891.100(d) and 24 CFR 891.165.

Project/Activity: Accessible Space, Inc., Universal City, Texas, Project Number: 115-HD025/TX59-Q971-003.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 16, 2001.

Reason Waived: Additional funds were needed to make the facility 100 percent accessible to persons with severe mobility impairments. Also, delays occurred while the Sponsor/Owner sought funds to make the project fully accessible and while their project was being redesigned to meet new City requirements.

Contact: Dianna Plaugher, Office of Housing Assistance and Grant Administration, U.S. Department of Housing and Urban Development, 451 Seventh Street SW, Washington, DC 20410; telephone: (202) 708-0614, extension 6791.

• Regulation: 24 CFR 891.100(d) and 24 CFR 891.165.

Project/Activity: Mountain View Housing, Westfield, Massachusetts, Project Number: 023-EE101/MA06-S981-006.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 16, 2001.

Reason Waived: The project was economically designed, comparable to other projects developed in the area, and the Sponsor/Owner had exhausted all efforts to obtain additional funds from outside sources. Also, additional time was needed to resolve a leasehold issue with the Commonwealth of Massachusetts in order to sell State-owned property designated for the project, resolve the issue involving the boiler and heating plant, and secure a waiver of the prohibition against leasehold payment capitalization.

Contact: Frank Tolliver, Office of Housing Assistance and Grant Administration, U.S. Department of Housing and Urban Development, 451 Seventh Street SW, Washington, DC 20410; telephone: (202) 708-0614, extension 3821.

• Regulation: 24 CFR 891.100(d) and 24 CFR 891.165.

Project/Activity: Reno Supportive Housing Development, Reno, Nevada, Project Number: 125-HD066/NV39-Q981-001.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 18, 2001.

Reason Waived: The project was delayed due to the switching of architectural firms and the resolution of a dispute with the State of Nevada Architectural Board. Also, the project was economically designed, comparable to other similar projects developed in the jurisdiction, and the Sponsor had exhausted all efforts to obtain additional funding from other sources.

Contact: Brenda Butler, Office of Housing Assistance and Grant Administration, U.S. Department of Housing and Urban Development, 451 Seventh Street SW, Washington, DC 20410; telephone: (202) 708-0614, extension 6788.

• Regulation: 24 CFR 891.130(a).

Project/Activity: Christopher Housing, Scattered Sites, Washington, Project Number: 127-HD018/WA19-Q961-001.

Nature of Requirement: Prohibited Relationships.

Granted By: Sean G. Cassidy, General Deputy Assistant Secretary for Housing—Deputy Federal Housing Commissioner.

Date Granted: April 2, 2001.

Reason Waived: The waiver was to permit Mr. Stephen Norman, who serves as a member of the board of Aids Housing of Washington, one of the co-Sponsors of the project, to also serve as the Executive Director for the Housing Authority of King County, which was the Management Agent for the project. Since Mr. Norman was the Executive Director of the Housing Authority of King County before he became a board member of Aids Housing of Washington, that he received no compensation for the latter position, and it was difficult to obtain a Management Agent that would accept a small number of units over such a widespread area, the waiver was granted.

Contact: Gail Williamson, Office of Housing Assistance and Grant Administration, U.S. Department of Housing and Urban Development, 451 Seventh Street SW., Washington, DC 20410; telephone: (202) 708-0614, extension 2473.

• Regulation 24 CFR 891.165.

Project/Activity: Howard Street Senior Apartments, San Francisco, California, Project Number: 121-EE121/CA39-S981-014.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The project had to be conveyed from the San Francisco Housing Authority and required approval from several levels of State and local government.

Contact: Frank Tolliver, Office of Housing Assistance and Grant Administration, Department of Housing and Urban Development, 451 Seventh Street SW., Washington, DC 20410; telephone: (202) 708-0614, extension 3821.

• Regulation: 24 CFR 891.165.

Project/Activity: Steamboat Trails, New Richmond, Ohio, Project Number: 046-EE045/OH10-S981-001.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The original site was withdrawn by the seller and the development team had to locate a new site which would allow them to utilize the original building design and site plan.

Contact: Frank Tolliver, Office of Housing Assistance and Grant Administration, Department of Housing and Urban Development, 451 Seventh Street SW., Washington, DC 20410; telephone: (202) 708-0614, extension 3821.

• Regulation: 24 CFR 891.165.

Project/Activity: Old Oak Arch, Virginia Beach, Virginia, Project Number: 051-HD079/VA36-Q991-002.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: Delays were caused by the Sponsor trying to resolve cost problems in order to keep project development costs within the fund reservation amount.

Contact: Brenda Butler, Office of Assistance and Grant Administration, Department of Housing and Urban Development, 451 Seventh Street SW., Washington, DC 20410; telephone: (202) 708-0614, extension 6788.

• Regulation: 24 CFR 891.165.

Project/Activity: Vermont Seniors, Los Angeles, California, Project Number: 122-EE148/CA16-S981-007.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The project had been delayed due to demolition of commercial and residential structures, additional funding for land acquisition and predevelopment costs and the resolution of a legal dispute involving the site.

Contact: Eloise May, Office of Housing Assistance and Grant Administration, Department of Housing and Urban Development, 451 Seventh Street SW., Washington, DC 20410; telephone: (202) 708-0614 extension, 2651.

• Regulation: 24 CFR 891.165.

Project/Activity: Three Bridges, Newark, New Jersey, Project Number: 031-EE042/NJ39-S961-008.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The Owner was obtaining bids from various contractors and would be submitting a revised application for Firm Commitment.

Contact: Monique Love, Office of Housing Assistance and Grant Administration, Department of Housing and Urban Development, 451 Seventh Street SW., Washington, DC 20410; telephone: (202) 708-0614 extension, 2475.

• Regulation: 24 CFR 891.165.

Project/Activity: Holy Rosary Senior Housing, Union City, New Jersey, Project Number: 031-EE049/NJ39-S981-006.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The project experienced delays while the Sponsors sought secondary financing from other sources for demolition and remediation of the site in addition to development expenses.

Contact: Monique Love, Office of Housing Assistance and Grant Administration, 451 Seventh Street SW., Washington, DC 20410; telephone: (202) 708-0614, extension 2475.

• Regulation: 24 CFR 891.165.

Project/Activity: Oscar House, Northridge, California, Project Number: 122-HD112/CA36-Q981-012.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The delay in beginning construction was due primarily to efforts to bring the project in at a reasonable cost.

Contact: Carissa Janis, Office of Housing Assistance and Grant Administration, Department of Housing and Urban Development, 451 Seventh Street SW., Washington, DC 20410; telephone: (202) 708-0614, extension 2487.

• Regulation: 24 CFR 891.165.

Project/Activity: Cedar Street Senior Apartments, Garberville, California, Project Number: 121-EE118/CA39-S981-011.

Nature Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The project had been delayed due to complications with site formation, adverse market conditions for obtaining suitable comparables and resolution of title issues involving the legal formation of the site.

Contact: Eloise May, Office of Housing Assistance and Grant Administration, Department of Housing and Urban Development, 451 Seventh Street SW., Washington, DC 20410; telephone: (202) 708-0614 extension, 2651.

• Regulation: 24 CFR 891.165.

Project/Activity: Ryder Assisted Care II, Humacao, Puerto Rico, Project Number: 056-HD014/RQ46-Q971-001.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The geo-technical engineer, architect and contractor were very active trying to find a cure to the site subsurface contingency.

Contact: Monique Love, Office of Housing and Assistance and Grant Administration, Department of Housing and Urban Development, 451 Seventh Street, SW., Washington, DC 20410; telephone: (202) 708-0614, extension 2475.

• Regulation: 24 CFR 891.165.

Project/Activity: Ryder Village II, Humacao, Puerto Rico, Project Number: 056-EE031/RQ46-S971-001.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The geo-technical engineer, architect and contractor were very active trying to find a cure to the site subsurface contingency.

Contact: Monique Love, Office of Housing Assistance and Grant Administration, Department of Housing and Urban Development, 451 Seventh Street SW., Washington, DC 20410; telephone: (202)708-0614, extension 2475.

• Regulation: 24 CFR 891.165.

Project/Activity: Friendship Plaza, Lincoln Heights, Ohio, Project Number: 046-EE047/OH10-S981-003.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The original contractor's construction costs were significantly higher than the Capital Advance fund reservation and the co-Sponsors had to solicit bids from other contractors.

Contact: Frank Tolliver, Office of Housing Assistance and Grant Administration, Department of Housing and Urban Development, 451 Seventh Street SW., Washington, DC 20410; telephone: (202) 708-0614, extension 3821.

• Regulation: 24 CFR 891.165.

Project/Activity: Access House I, Parsippany-Troy Hills, New Jersey, Project Number: 031-HD078/NJ39-Q971-001.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: The Building Department for the Township of Parsippany-Troy Hills could not issue building permits for the project because they were waiting for a Letter of Interpretation from the New Jersey Department of Environmental Protection.

Contact: Monique Love, Office of Housing Assistance and Grant Administration, Department of Housing and Urban Development, 451 Seventh Street SW., Washington, DC 20410; telephone: (202)708-0614, extension 2475.

• Regulation: 24 CFR 891.165.

Project/Activity: Ridgeview Terrace I, Ashtabula, Ohio, Project Number: 042-EE106/OH12-S981-009.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: Obstacles concerning road access had to be addressed prior to receiving building permits and the Department of Highways requested that storm water run-off be redirected which necessitated reengineering of the site plan.

Contact: Frank Tolliver, Office of Housing Assistance and Grant Administration, Department of Housing and Urban Development, 451 Seventh Street, Washington, DC 20410; telephone: (202)708-0614, extension 3821.

• Regulation: 24 CFR 891.165.

Project/Activity: Ziegler Homes, Toledo, Ohio, Project Number: 042-HD058/OH12-Q961-005.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 2, 2001.

Reason Waived: Bids had to be solicited from other contractors to address budget overruns and additional funds from outside sources would not be available until March 2001 to cover the cost of development in excess of the Capital Advance.

Contact: Frank Tolliver, Office of Housing Assistance and Grant Administration, Department of Housing and Urban Development, 451 Seventh Street SW., Washington, DC 20410; telephone: (202) 708-0614 extension, 3821.

• Regulation: 24 CFR 891.165.

Project/Activity: Cold Spring House, Forestburgh, New York, Project Number: 012-HD075/NY36-Q971-004.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 5, 2001.

Reason Waived: The project had been delayed due to unresolved legal issues for initial closing.

Contact: Eloise May, Office of Housing Assistance and Grant Administration, Department of Housing and Urban Development, 451 Seventh Street SW., Washington, DC 20410; telephone: (202) 708-0614 extension, 2651.

• Regulation: 24 CFR 891.165.

Project/Activity: Orange Senior Housing, Orange Essex County, New Jersey, Project Number: 031-EE048/NJ39-S981-005.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 9, 2001.

Reason Waived: There was a delay due to the change in architect and revisions that needed to be made in the project designs and plans.

Contact: Eloise May, Office of Housing Assistance and Grant Administration, Department of Housing and Urban Development, 451 Seventh Street SW., Washington, DC 20410; telephone: (202) 708-0614, extension 2651.

• Regulation: 24 CFR 891.165.

Project/Activity: Cottonwood Manor V, Cottonwood, Arizona, Project Number: 123-EE066/AZ20-S981-003.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 9, 2001.

Reason Waived: Delays were caused by the excessive amount of time taken to design the project and to locate a qualified general contractor to build the project within the budget.

Contact: Brenda Butler, Office of Housing Assistance and Grant Administration, Department of Housing and Urban Development, 451 Seventh Street SW., Washington, DC 20410; telephone: (202) 708-0614 extension, 6788.

• Regulation: 24 CFR 891.165.

Project/Activity: La Playa Apartments, San Francisco, California, Project Number: 121-HD065/CA39-Q981-002.

Nature Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 9, 2001.

Reason Waived: The site, which was one block from the Pacific Ocean and subject to California coastal controls, had to undergo time consuming investigations and certifications by the City of San Francisco.

Contact: Frank Tolliver, Office of Housing Assistance and Grant Administration, Department of Housing and Urban Development, 451 Seventh Street SW, Washington, DC 20410; telephone: (202) 708-0614 extension, 3821.

• Regulation: 24 CFR 891.165.

Project/Activity: Ottawa River Estates, Toledo, Ohio, Project Number: 042-HD072/OH12-Q971-004.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 10, 2001.

Reason Waived: The Sponsor was tied up in litigation concerning the sale of the land designated for the project.

Contact: Frank Tolliver, Office of Housing Assistance and Grant Administration, Department of Housing and Urban Development, 451 Seventh Street SW, Washington, DC 20410; telephone: (202) 708-0614, extension 3821.

• Regulation: 24 CFR 891.165.

Project/Activity: North Pine Street Senior Housing, Ukiah, Mendocino County, California, Project Number: 121-EE119/CA39-S981-012.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 10, 2001.

Reason Waived: The project experienced significant delays while the Department reviewed and approved the partial release of a portion of an existing Section 202 project upon which the project was to be located.

Contact: Brenda Butler, Office of Housing Assistance and Grant Administration, Department of Housing and Urban Development, 451 Seventh Street SW, Washington, DC 20410; telephone: (202) 708-0614, extension 6788.

• Regulation: 24 CFR 891.165.

Project/Activity: Abraham Lincoln Center, Chicago, Illinois, Project Number: 071-HD095/IL06-Q961-010.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 12, 2001.

Reason Waived: The field office was awaiting a revised Firm Commitment application.

Contact: Alicia Anderson, Office of Housing Assistance and Grant Administration, Department of Housing and Urban Development, 451 Seventh Street SW, Washington, DC 20410; telephone: (202) 708-0614, extension 5787.

• Regulation: 24 CFR 891.165.

Project/Activity: Project Live VIII, Glen Ridge, New Jersey, Project Number: 031-HD092/NJ39-Q981-007.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 12, 2001.

Reason Waived: The field office was processing the Firm Commitment.

Contact: Alicia Anderson, Office of Housing Assistance and Grant Administration, Department of Housing and Urban Development, 451 Seventh Street SW, Washington, DC 20410; telephone: (202) 708-0614, extension 5787.

• Regulation: 24 CFR 891.165.

Project/Activity: West Street Commons, Wilmington, Delaware, Project Number: 032-HD018/DE26-Q961-004.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 12, 2001.

Reason Waived: Major revisions/design changes were made to the project, the site changed three times, new core development team members were hired, and it was required that the new development team members entirely redo the application exhibits.

Contact: Rita Ross, Office of Housing Assistance and Grant Administration, Department of Housing and Urban Development, 451 Seventh Street SW, Washington, D.C. 20410, telephone: (202) 708-0614 extension 2696.

• Regulation: 24 CFR 891.165.

Project/Activity: Rudolph Mercy Douglass Home for the Blind, Philadelphia, Pennsylvania, Project Number: 034-HD052/PA26-Q971-004.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 16, 2001.

Reason Waived: The Sponsor had a commitment toward secondary funding from the Philadelphia Redevelopment Authority and the documents for the transaction were being finalized.

Contact: Rita Ross, Office of Housing Assistance and Grant Administration, Department of Housing and Urban Development, 451 Seventh Street SW, Washington, DC 20410; telephone: (202) 708-0614 extension 2696.

• Regulation: 24 CFR 891.165.

Project/Activity: Volunteers of America, Thomaston, Maine, Project Number: 024-EE038/ME36-S971-003.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Waived: April 18, 2001.

Reason Waived: The Owner incurred significant delays due to a need to change sites.

Contact: Alicia Anderson, Office of Housing Assistance and Grant Administration, Department of Housing and Urban Development, 451 Seventh Street SW, Washington, DC 20410; telephone: (202) 708-0614 extension 5787.

• Regulation: 24 CFR 891.165.

Project/Activity: Northwest Behavioral Health Services, Inc., Jacksonville, Duval County, Florida, Project Number: 063-HD013/FL29-Q981-010.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 18, 2001.

Reason Waived: The project experienced delays due to outstanding design issues related to Fair Housing requirements and comments were pending from a geo-technical engineer.

Contact: Monique Love, Office of Housing Assistance and Grant Administration, Department of Housing and Urban Development, 451 Seventh Street, SW, Washington, DC 20410; telephone: (202) 708-0614 extension 2475.

• Regulation: 24 CFR 891.165.

Project/Activity: Pine Street Inn, Dorchester, Massachusetts, Project Number: 023-EE098/MA06-S981-003.

Nature of Requirement: HUD's regulation at 24 CFR 891.165 provides that the duration of the fund reservations for the capital advance is 18 months from the date of issuance with limited exceptions up to 24 months, as approved by HUD on a case-by-case basis.

Granted By: Sean G. Cassidy, General Deputy Assistant Secretary for Housing—Deputy Federal Housing Commissioner.

Date Granted: April 18, 2001.

Reason Waived: The Sponsor had to locate an alternate site.

Contact: Rita Ross, Office of Housing Assistance and Grant Administration, Department of Housing and Urban Development, 451 Seventh Street SW, Washington, DC 20410; telephone: (202) 708-0614 extension 2696.

• Regulation: 24 CFR 891.410.

Project/Activity: Joseph J. Vinopal Villa, FHA Project Number 075-EE041-NP/WAH/L8, Almena, Wisconsin.

Nature of Requirement: HUD regulations at 24 CFR 891 limit occupancy to Very Low Income elderly persons, i.e., households of one or more persons at least one of whom is 62 years of age at the time of initial occupancy.

Granted By: Sean G. Cassidy, General Deputy Assistant Secretary for Housing—Deputy Federal Housing Commissioner.

Date Granted: April 12, 2001.

Reason Waived: This waiver has been approved due to the project's severe problems in maintaining project occupancy. The owner has been actively marketing the project; however, the demand for its units is not as strong as anticipated; therefore, the age and income requirements are waived in order to allow management to rent to persons between the ages of 55 and 62 and also persons above the very low income limit but at or below the low income limit. The granting of this waiver will provide additional flexibility for short-term marketing and attempt to rent up vacant units.

Contact: Gloria Burton, Field Asset Management Division, Office of Asset Management, Department of Housing and Urban Development, 451 Seventh Street SW, Room 6176, Washington, DC 20410; telephone: (202) 708-0614, extension 2611.

• Regulation: 24 CFR 891.575 and 891.610(c).

Project/Activity: Parker Heights Apartments, FHA Project Number 033-EE019, Parker, Pennsylvania. The Philadelphia Multifamily Hub has requested waiver of this regulation due to chronic vacancy problems.

Nature of Requirement: HUD regulations at 24 CFR Part 891 limit occupancy to Very Low Income elderly persons, i.e., households of one or more persons at least one of whom is 62 years of age at the time of initial occupancy.

Granted By: Sean G. Cassidy, General Deputy Assistant Secretary for Housing—Deputy Federal Housing Commissioner.

Date Waived: April 2, 2001.

Reason Waived: The General Deputy Assistant Secretary has approved this waiver because the subject project has been unable to maintain full occupancy when turnover occurred due to its location in an impoverished area. A waiver of the income requirements was requested to alleviate the problem. A waiver was granted in the past to permit low income elderly applicants which enabled the property to rent up. This outreach effort would allow management to extend occupancy to those of low income; thereby providing additional flexibility in attempting to rent up vacant units.

Contact: Cindy W. Bridges, Field Asset Management Division, Office of Asset Management, Department of Housing and Urban Development, 451 Seventh Street SW, Room 6160, Washington, DC 20410; telephone: (202) 708-0614, extension 2603.

• Regulation: 24 CFR 891.575 and 891.610(c).

Project/Activity: Pioneer Place, IV, Project No. 075-EE021/NO/WAH, Poynette, Wisconsin.

Nature of Requirement: HUD regulations at 24 CFR 891 limit occupancy to Very Low Income (VLI) elderly persons, i.e., households of one or more persons at least one of whom is 62 years of age at the time of initial occupancy.

Granted By: John C. Weicher, Assistant Secretary for Housing—Federal Housing Commissioner.

Date Granted: June 27, 2001.

Reason Waived: This waiver was granted to allow the project to market vacant units to low income persons between 51-80 percent of median income and ages 62 and older. This waiver is an attempt to allow management to market vacant units to this group; and thereby maintain the viability of this project.

Contact: Gloria Burton, Field Asset Management Division, Office of Asset Management, Department of Housing and Urban Development, 451 Seventh Street SW, Room 6176, Washington, DC 20410; telephone: (202) 708-0614, extension 2611.

IV. Regulatory Waivers Granted by the Office of Multifamily Housing Assistance Restructuring (OMHAR)

For further information about the following waiver actions, please see the name of the contact person who immediately follows the description of the waiver granted.

• Regulations: 24 CFR 401.600.

Project/Activity: The following projects requested waivers to the 12-month limit at above-market rents (24 CFR 401.600):

FHA No. | Project name | State
01235280 | 1041 Bushwick Avenue Apts | NY
08444114 | Avon Apartments | MO
08444114 | Avon Apartments | MO
08444114 | Avon Apartments | MO
01257058 | Roosevelt Gardens | NY
01257100 | Sebco VI | NY
03435081 | Whitehall Acres Apartments | PA

Nature of Requirement: 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: April 12, 2001.

Reasons Waived: The attached list of projects were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
08444156 | Bainbridge Apts | MO
08444156 | Bainbridge Apts | MO ′
03535063 | Barclay Arms | NJ
01257049 | Eastern Parkway | NY
09335071 | Fraser Tower | MT
08335268 | Golden Harvest Village | KY
08735012 | Greeneville Manor Apartments | TN
08135087 | Gunn Garden Apartments | TN
09135060 | Lakeview Terrace Apartments | SD
04535087 | Lewis Terrace/Tabor Tower | WV
01257107 | MBD I | NY
01257054 | President Arms | NY
12735298 | South Bayview Apartments | WA
12135634 | Sunnyside Glen Apartments | CA
01635054 | The Colony | RI
01410009 | Towne Gardens Housing Dev | NY
08435142 | Victoria Arms Apartments | MO

Nature of Requirement: 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: May 1, 2001.

Reasons Waived: The attached list of projects were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
01257138 | Academy Gardens | NY
08335257 | Carter Court | KY
04235088 | Delaware Acres | OH
10235148 | Newton Plaza Apartments | KS
04644088 | SEM Villa I | OH
01235277 | Seward Manor | NY
08335232 | The Bedford House | KY

Nature of Requirement: 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: June 11, 2001.

Reasons Waived: The attached list of projects were not assigned to the PAEs in a timely manner or for which the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

V. Regulatory Waivers Granted by the Office of Public and Indian Housing

For further information about the following waiver actions, please see the name of the contact person who immediately follows the description of the waiver granted.

• Regulation: 24 CFR 982.51 (a) and (b).

Project/Activity: New Hampshire Housing Finance Authority (NHHFA), New Hampshire; project-based assistance. NHHFA requested a waiver to permit it to select owner proposals for project-based assistance (PBA) as part of its recent advertisement for proposals for new development of affordable housing under its multifamily housing production initiative rather than separately seeking owner proposals for project-based assistance. NHHFA would provide project-based assistance for up to 300 units to the highest-ranking proposals selected under its multifamily housing production initiative.

Nature of Requirement: The regulation requires HUD review and approval of a written selection policy and advertisement for the competitive selection of units to receive project-based assistance.

Granted By: Gloria J., Cousar, Acting General Deputy Assistant Secretary for Public and Indian Housing.

Date Granted: April 20, 2001.

Reason Waived: Approval of the waivers will provide for new development of affordable rental housing units for very low and extremely low-income families. Fewer than 15 percent of New Hampshire rental units are affordable to very low-income renters. The approval also supports the NHHFA's multifamily housing production initiative. The NHHFA program requires that 50 percent of the units in a development be rented to very low-income families or at rents affordable for very low-income families.

Contact: Gerald Benoit, Director, Real Estate and Housing Performance Division, Office of Public and Assisted Housing Delivery, Office of Public and Indian Housing, Department of Housing and Urban Development, 451 Seventh Street, SW, Washington, DC 20410; Room 4210, telephone: (202) 708-0970.

• Regulation: 24 CFR 982.352(c)(6) and (8).

Project/Activity: Santa Barbara Housing Authority (SBHA), Santa Barbara, CA, housing choice voucher program. SBHA requested a waiver to permit it to combine other housing subsidies including HOME subsidies, with voucher assistance. Several non-profit organizations that serve the disabled community wanted to provide additional subsidies for voucher participants to enable them to rent units above the payment standard. The non-profit community organizations and SBHA were concerned that the voucher subsidy alone is inadequate for many vouchers holders to secure housing because the Santa Barbara County rental market is extremely tight, gross rents typically exceed payment standards.

Nature of Requirement: The regulation prohibits a family from receiving tenant-based assistance while receiving tenant-based assistance under the HOME program, any local or State rent subsidy, or any other duplicative Federal, State or local housing subsidy as determined by HUD.

Granted By: Gloria J., Cousar, Acting General Deputy Assistant Secretary for Public and Indian Housing.

Date Granted: April 18, 2001.

Reason Waived: Approval of the waivers will increase the probability that voucher holders in the SBHA voucher program can secure housing in Santa Barbara County, and permit voucher holders who require housing in Santa Barbara County to avoid undue hardship.

Contact: Gerald Benoit, Director, Real Estate and Housing Performance Division, Office of Public and Assisted Housing Delivery, Office of Public and Indian Housing, Department of Housing and Urban Development, 451 Seventh Street, SW, Washington, DC 20410; Room 4210, telephone: (202) 708-0970.

• Regulation: 24 CFR 982.503(c)(2)(ii)

Project/Activity: Arlington Housing Authority, Massachusetts, Housing Choice Voucher Program.

Nature of Requirement: The regulation provides that the HUD field office may approve an exception payment standard between 110 and 120 percent of the published Fair Market Rent if required as a reasonable accommodation for a family that includes a person with disabilities.

Granted By: Paula O. Blunt, Acting General Deputy Assistant Secretary for Public and Indian Housing.

Date Granted: June 27, 2001.

Reason Waived: Approval of the waiver to allow the field office to approve an exception payment in excess of 120 percent made it possible for a family that includes a person with disabilities to remain in their current unit for one year until the family is able to obtain assistance to search for suitable alternative housing.

Contact: Gerald Benoit, Director, Real Estate and Housing Performance Division, Office of Public and Assisted Housing Delivery, Office of Public and Indian Housing, Department of Housing and Urban Development, 451 Seventh Street, SW, Washington, DC 20410; Room 4210, telephone: (202) 708-0477.

• Regulation: 24 CFR 990.107(f) and 990.109.

Project/Activity: Duluth Housing Authority, MN.

A request was made to permit the Authority to benefit from energy performance contracting for developments that have tenant-paid utilities. The PHA estimates that it could increase savings substantially if it were able to undertake energy performance contracting for both PHA-paid and tenant-paid utilities.

Nature of Requirement: Under 24 CFR part 990, Performance Funding System (PFS) energy conservation incentive that relates to energy performance contracting currently applies to only PHA-paid utilities. The Duluth Housing Authority has both PHA-paid and tenant-paid utilities.

Granted By: Gloria J. Cousar, Acting General Deputy Assistant Secretary.

Date Granted: April 24, 2001.

Reason Waived: In September 1996, the Oakland Housing Authority was granted a waiver to permit the Authority to benefit from energy performance contracting for developments with tenant-paid utilities. The waiver was granted on the basis that the Authority presented a sound and reasonable methodology for doing so. The Duluth Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, Washington, DC 20410; Room 4216; telephone: (202) 708-1872.

• Regulation: 24 CFR 990.107(f) and 990.109.

Project/Activity: Flint Area Consolidated Housing Authority, GA.

A request was made to permit the Authority to benefit from energy performance contracting for developments, which have tenant-paid utilities. The PHA estimates that it could increase savings substantially if it were able to undertake energy performance contracting for both PHA-paid and tenant-paid utilities.

Nature of Requirement: Under 24 CFR part 990, Performance Funding System (PFS) energy conservation incentive that relates to energy performance contracting currently applies to only PHA-paid utilities. The Flint Area Consolidated Housing Authority has both PHA-paid and tenant-paid utilities.

Granted By: Gloria J. Cousar, Acting General Deputy Assistant Secretary.

Date Granted: April 24, 2001.

Reason Waived: In September 1996, the Oakland Housing Authority was granted a waiver to permit the Authority to benefit from energy performance contracting for developments with tenant-paid utilities. The waiver was granted on the basis that the Authority presented a sound and reasonable methodology or doing so. The Flint Area Consolidated Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, Washington, DC 20410; Room 4216; telephone: (202) 708-1872.

• Regulation: 24 CFR 990.107(f) and 990.109.

Project/Activity: Dublin Housing Authority, GA.

A request was made to permit the Authority to benefit from energy performance contracting for developments, which have tenant-paid utilities. The PHA estimates that it could increase savings substantially if it were able to undertake energy performance contracting for both PHA-paid and tenant-paid utilities.

Nature of Requirement: Under 24 CFR Part 990, Performance Funding System (PFS) energy conservation incentive that relates to energy performance contracting currently applies to only PHA-paid utilities. The Dublin Housing Authority has both PHA-paid and tenant-paid utilities.

Granted By: Gloria J. Cousar, Acting General Deputy Assistant Secretary.

Date Granted: May 16, 2001.

Reason Waived: In September 1996, the Oakland Housing Authority was granted a waiver to permit the Authority to benefit from energy performance contracting for developments with tenant-paid utilities. The waiver was granted on the basis that the Authority presented a sound and reasonable methodology for doing so. The Dublin Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, Washington, DC 20410; Room 4216; telephone: (202) 708-1872.

• Regulation: 24 CFR 990.107(f) and 990.109.

Project/Activity: Rock Island Housing Authority, IL.

A request was made to permit the Authority to benefit from energy performance contracting for developments, which have tenant-paid utilities. The PHA estimates that it could increase savings substantially if it were able to undertake energy performance contracting for both PHA-paid and tenant-paid utilities.

Nature of Requirement: Under 24 CFR part 990, Performance Funding System (PFS) energy conservation incentive that relates to energy performance contracting currently applies to only PHA-paid utilities. The Dublin Housing Authority has both PHA-paid and tenant-paid utilities.

Granted By: Gloria J. Cousar, Acting General Deputy Assistant Secretary.

Date Granted: May 14, 2001.

Reason Waived: In September 1996, the Oakland Housing Authority was granted a waiver to permit the Authority to benefit from energy performance contracting for developments with tenant-paid utilities. The waiver was granted on the basis that the Authority presented a sound and reasonable methodology for doing so. The Rock Island Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, Washington, DC 20410; Room 4216, telephone: (202) 708-1872.

[FR Doc. 01-27901 Filed 11-6-01; 8:45 am]

BILLING CODE 4210-32-P